DEPARTMENT OF ENERGY

Federal Energy Regulatory Commission

[Docket No. CP21-6-000]

Spire Storage West, LLC; Notice of Schedule for the Preparation of an Environmental Assessment for the Clear Creek Expansion Project

On October 9, 2020, Spire Storage West, LLC (Spire Storage) filed an application in Docket No. CP21-6-000 requesting a Certificate of Public Convenience and Necessity pursuant to Section 7(c) of the Natural Gas Act to construct and operate certain natural gas pipeline facilities. The proposed project is known as the Clear Creek Expansion Project (Project), and would expand Spire Storage's natural gas storage facilities in Uinta County, Wyoming in order to increase the certificated gas capacities from 4.0 billion cubic feet (Bcf) to 20 Bcf, and increase the maximum daily injection and withdrawal capacities from 35 million cubic feet (MMcf) and 50 MMcf per day, to 350 MMcf and 500 MMcf per day, respectively.

On October 22, 2020, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA May 13, 2021

90-day Federal Authorization Decision Deadline August 11, 2021

If a schedule change becomes necessary, additional notice will be provided so that the relevant agencies are kept informed of the Project's progress.

Project Description

The Clear Creek Expansion Project would consist of the following facilities in Uinta County, Wyoming:

• Four compressor units at the Clear Creek Plant;

• a tank storage and natural gas liquids fueling equipment facility on an existing pad;

• 11 new injection/withdrawal wells, one new water disposal well, and associated lines;

• approximately 10.6 miles of 20-inch-diameter pipeline;

• approximately 3.5 miles of 4,160-volt powerline; and

• other related appurtenances.

Background

On November 9, 2020, the Commission issued a Notice of Scoping Period Requesting Comments on Environmental Issues for the Proposed Clear Creek Expansion Project (Notice of Scoping). The Notice of Scoping was sent to affected landowners; federal, state, and local government agencies; elected officials; environmental and public interest groups; Native American tribes; other interested parties; and local libraries and newspapers. In response to the Notice of Scoping, the Commission received comments from the Wyoming Department of Environmental Quality. The primary issues raised by the commenter are permitting, stream crossings, wetland impacts, and spill reporting. All substantive comments will be addressed in the EA.

The U.S. Bureau of Land Management is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-6), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 9, 2020.
Kimberly D. Bose,
Secretary.

[FR Doc. 2020-27531 Filed 12-14-20; 8:45 am]

BILLING CODE 6717-01-P